ENVIRONMENTAL PROTECTION AGENCY

[EPA-HQ-OPPT-2015-0785; FRL-9976-28]

2018 Safer Choice Partner of the Year Awards Program

AGENCY: Environmental Protection Agency (EPA).

ACTION: Notice.

SUMMARY: EPA is seeking applications for the 2018 Safer Choice Partner of the Year Awards. In 2015, EPA developed the Partner of the Year Awards to recognize Safer Choice stakeholders who have advanced the goals of the Pollution Prevention Act by reducing pollution at its source through safer chemistry. At the 2018 Partner of the Year Awards, Safer Choice will recognize stakeholder organizations from five broad categories: Formulators/Product Manufacturers of both Consumer and Institutional/Industrial products, Purchasers and Distributors, Retailers, Supporters (e.g., non-governmental organizations), and Innovators (e.g., chemical manufacturers). All applications and accompanying materials must be received by Wednesday, June 27, 2018. Award winners will be recognized at a ceremony in the fall of 2018.

FOR FURTHER INFORMATION CONTACT:

For technical information contact:

Linda Rutsch, Chemistry, Economics and Sustainable Strategies Division, Office of Pollution Prevention and Toxics, Environmental Protection Agency, 1200 Pennsylvania Ave. NW, Washington, DC 20460-0001; telephone number: (202) 343-9924; email address: rutsch.linda@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you are a Safer Choice program partner or stakeholder. The following list of North American Industrial Classification System (NAICS) codes is not intended to be exhaustive, but rather provides a guide to help readers determine whether this document applies to them. Potentially affected entities may include:

NAICS Code Affected Industry

325510 Paint and Coating Manufacturing.

325611 Soap and Other Detergent Manufacturing.

325612 Polish and Other Sanitation Good Manufacturing.

325910 Printing Ink Manufacturing.

325992 Photographic Film, Paper, Plate, and Chemical Manufacturing.

325998 All Other Miscellaneous Chemical Product and Preparation Manufacturing.

561210 Facilities Support Services.

561720 Janitorial Services.

561740 Carpet and Upholstery Cleaning Services.

611310 Colleges, Universities, and Professional Schools.

8123 Dry Cleaning and Laundry Services.

921190 Other General Government Support.

B. How can I get related information?

The full Safer Choice Partner of the Year Awards announcement and award application materials can be found at: https://www.epa.gov/saferchoice/safer-choice-partner-year-awards.

C. How can I get copies of this document and other related information?

The docket for this action, identified by docket information (ID) number EPA-HQ-OPPT-2015-0785, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the Agency taking?

EPA is seeking applications for the 2018 Safer Choice Partner of the Year Awards. In 2015, EPA developed the Partner of the Year Awards to recognize Safer Choice stakeholders who have advanced the goals of the Pollution Prevention Act by reducing pollution at its source through safer chemistry. The Safer Choice Partner of the Year Awards recognize program participants for advancing the goal of chemical safety through exemplary participation in or promotion of the Safer Choice program. Safer Choice program participants are continually driving innovation to make chemical products safer. The program currently certifies approximately 2,000 products, used by consumers, institutions and industry that meet the Safer Choice Standard. The 2018 Partner of the Year Awards will be the fourth annual event, with recognition for Safer Choice stakeholder organizations from five broad categories: (1) Formulators/Product Manufacturers of both Consumer and Institutional/Industrial products, (2) Purchasers and Distributors, (3) Retailers, (4) Supporters (e.g., non-governmental organizations, including environmental and health advocates, trade associations, academia, sports teams, and others), and (5) Innovators (e.g., chemical manufacturers, technology developers, and others).

The award application and instructions are available at https://www.epa.gov/saferchoice/safer-choice-partner-year-awards. Interested applicants may also view a webinar on the award application process by visiting the website. All applications and accompanying materials must be received by Wednesday, June 27, 2018. Award winners will be recognized at a ceremony in the fall of 2018.

Authority: 15 U.S.C. 2601.

Dated: April 17, 2018,
Charlotte Bertrand,
Acting Principal Deputy Assistant Administrator, Office of Chemical Safety and Pollution Prevention.

[FR Doc. 2018-08693 Filed 4-24-18; 8:45 am]

BILLING CODE 6560-50-P